DEPARTMENT OF HEALTH AND HUMAN SERVICES

Administration for Children and Families

Proposed Information Collection Activity; Services Provided to Unaccompanied Alien Children (0970-0553)

AGENCY: Office of Refugee Resettlement; Administration for Children and Families; Department of Health and Human Services.

ACTION: Request for public comment.

SUMMARY: The Office of Refugee Resettlement (ORR), Administration for Children and Families (ACF), U.S. Department of Health and Human Services (HHS), is inviting public comments on revisions to an approved information collection. The request consists of several forms that allow the Unaccompanied Alien Children (UAC) Program to provide services to UAC as required by statute and ORR policy.

DATES: Comments due within 60 days of publication. In compliance with the requirements of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: ORR revised 11 instruments currently approved under OMB #0970-0553 and plans to add 11 new instruments to this collection. All instruments will be incorporated into ORR's new case management system, UAC Path. In addition, ORR plans to remove one currently approved instrument from this collection.

1. Sponsor Assessment (Form S-5): This instrument is used by case managers to document their assessment of the suitability of a potential sponsor to provide for the safety and well-being of a UAC. ORR reformatted and reorganized the instrument and reworded some of the fields. In addition, ORR made the following revisions:

○ In the “Sponsor Basic Information” section, added the field “Relationship to UAC”.

○ In the “Family Relationships” section, added the field “Home Address” and removed the field “Are you married to your partner?”

○ In the “Household Composition” section, removed the field “Valid Identity Document Received”.

○ In the “Previous Sponsorship” section, removed the field “How many children did you sponsor?” and added the following fields: “What contact do you still have with the child?”, What is the child's current legal status?”, and “HHM/AACG Name”.

○ In the “Proof of Identity” section, removed the following fields: “Sponsor's identity is verified”, “Household member's identity is verified”, “Adult Caregiver's identity is verified”, and “Additional information on identity”.

○ In the “Proof of Immigration Status or U.S. Citizenship” section, added the following fields: “Proof of Immigration Document Type”, “Expiration Date”, “Date Documents Issued”, and “Verified by Government Agency or Consulate”.

○ In the “Proof of Address” section, added the field “Alternate Phone” and removed the following fields: “Work Phone”, “Fax”, “Describe the area/neighborhood where you reside”, “Do you receive your mail at a different address?”, “If yes, what is the address that you use to receive mail?”, and “Resided at Address Within Past 5 Years”.

○ In the “Proof of Financial Stability” section, added the following fields: “List Proof of Financial Stability documents provided”, “Proof of Financial Stability Document Type”, and “Date Document Issued”.

○ In the “Care Plan” section, added the fields “Are you aware of any mental health conditions of the UAC which will need treatment?” and “Explain how you plan to supervise and ensure the safety of the UAC” and removed eight other fields.

○ Removed the “Safety Plan” section.

○ In the “Supervision Plan” section, removed the fields “SSN/A No.” and “Explain how you plan to supervise the minor”.

○ In the “Alternate Adult Caregiver Plan” section, removed the field “SSN/A No.”.

○ In the “Self-Disclosed Criminal History” section, added the fields “Conviction” and “List any child abuse and neglect history” and removed six other fields.

○ In the “Sponsor's Knowledge of UAC Journey and Apprehension” section, added the field “If there is a debt still owed for the UAC's journey, please explain”.

○ In the “Human Trafficking” section, added the fields “If you have travelled back to your country of origin since your arrival in the U.S., please explain” and “Were you ever restricted from quitting or leaving the work?” and removed 16 other fields.

2. Home Study Assessment (formerly titled Home Study Report) (Form S-6): This instrument is used by home study providers to document their assessment of a potential sponsor after performing a home site visit. ORR reformatted and reorganized the instrument and reworded some of the fields. In addition, ORR made the following revisions:

○ In the “UAC Background” section, removed the question related to the UAC's understanding of certain U.S. laws. Questions about how sponsor disciplines children and whether UAC would feel safe living with sponsor were replaced with a single question asking if the UAC has any concerns about living with sponsor.

○ In the “Sponsor's Motivation and Relationship to UAC” section, replaced the question on the location of the sponsor's family members in the U.S. and their relationship to the UAC with a question asking if the sponsor has a family support system in the U.S. and whether they can provide assistance.

○ In the “Household Members” section, removed fields related to background checks because this information is documented by case managers elsewhere in UAC Path.

○ In the “Summary” section, removed the risk factors and protective factors table.

3. Adult Contact Profile (formerly titled New Sponsor) (Form S-7): The purpose of this instrument has been expanded; it now acts as a hub where users can access all records related to a sponsor, adult household member, or alternate adult caregiver. The average burden minutes per response was increased from 20 to 45 minutes. In addition, ORR made the following revisions:

○ Replaced the “UAC Basic Information” section with the “Associated UACs” table.

○ Removed the following fields: “SSN”, Country of Residency”, “Query ID”, “Does anyone in the Household have a Serious Contagious Disease?”, and “Do any of the Occupants Have Criminal Convictions or Charges, Other Than Minor Traffic Violations?”.

○ Added the following fields: “AKA”, “Current Age”, “Primary Language Spoken”, “Other Spoken Languages”, “Additional Cultural Information”, and “Legacy Address”.

○ Replaced the fields related to address and address flags with the “Address History” section.

○ Moved the information from the “Affidavits of Support” table to the Sponsor Assessment.

4. Initial Intakes Assessment (Form S-8): This instrument is used by care providers to screen UAC for trafficking or other safety concerns, special needs, danger to self and others, medical conditions, and mental health concerns. ORR reformatted and reorganized the instrument and reworded some of the fields. The average burden minutes per response was increased from 15 to 20 minutes. In addition, ORR made the following revisions:

○ In the “Information” section, removed the field “Date of departure from home country” and added the following fields: “City of Birth”, “Neighborhood of Birth”, “Religious Affiliation”, “Other Languages Spoken”, “Who did UAC live with before placement?”

○ Replaced the “Family Information” section with the “Family and Friends” and “Adult Contact Relationships” sections.

○ Added new “Significant Information” section, containing six fields.

○ In the “Medical” section, replaced or reworded most fields and expanded the fields related to allergies into multiple fields.

○ Added a new “Medication Overview” section, containing three fields.

○ Revised the available fields in the “Observable or Reported Medical Concerns” section.

○ Reduced the number of fields in the “Mental Health” section to three.

5. Assessment for Risk (Form S-9): This instrument is an assessment administered by care providers to reduce the risk that a child or youth is sexually abused or abuses someone else while in ORR custody. ORR reformatted and reorganized the instrument and changed reworded some of the fields. In addition, ORR added several fields related to the UAC's sexual history and two fields on mental and physical disability and illness. The average burden minutes per response was increased from 30 to 45 minutes.

6. UAC Assessment (Form S-11): This instrument is an in-depth assessment used by care providers to document information about the UAC that is used to inform provision of services (e.g., case management, legal, education, medical, mental health, home studies), screen for trafficking or other safety concerns, and identify special needs. ORR reformatted and reorganized the instrument and reworded some of the fields. The average burden minutes per response was increased from 45 minutes to 2 hours. In addition, ORR made the following revisions:

○ Added a new “Age-determination or Identity Concern” section, containing 11 fields.

○ In the “Additional UAC Information” section, added the following fields: “City of Birth”, “Who did UAC live before placement”, “Neighborhood of Birth”, and “Other additional information”.

○ In the “Family and Friends” section, removed “Has family in Country of Origin?”, “Has Family in the US?” fields. Replaced “Family in Country of Origin” and “Family and Friends in the U.S.” tables with a “Family and Friends” table. Added “Separated from Parents/Legal Guardian?” and “Migrant Protection Protocol case?” fields.

○ Removed the “Medical History” and “Medication Table” from the “Medical” section and added the field “Health care needs are being addressed”.

○ Moved fields in the “Legal” section to the UAC Profile and UAC Legal Information instruments found in other ORR information collections.

○ Removed all fields from the “Criminal” section and replaced them with three new fields and an area to provide details on any criminal charges (nine fields).

○ Removed the “Mental Health/Behavior” section because that information is available in the mental health area of UAC Path.

○ In the “Sponsor Information” section, replaced the table with the “Adult Contact Relationship” table and added a section that displays “Previous Sponsor Applications”.

○ Added a “Documents” section in which documents directly related to case management may be uploaded.

○ In the “Certification” section, created separate areas for both the clinician and case manager to certify that all required sections of the instruments are complete and accurate and added “Translator Name” and “Language” fields.

7. UAC Case Review (Form S-12): This instrument is used by care providers to document new information obtained after completion of the UAC Assessment. ORR reformatted and reorganized the instrument and reworded some of the fields. The average burden minutes per response was increased from 30 minutes to 2 hours. In addition, ORR made the following revisions:

○ Added a new “Age-determination or Identity Concern” section, containing 11 fields.

○ Created a new “Additional UAC Information” section and added the following fields: “UAC Case Review Type”, “Who did UAC live with before placement?”, “City of Birth”, “Religious Affiliation”, “Neighborhood of Birth”, “Separated from Parents/Legal Guardian?”, and “Parent Separation Case Updates”.

○ In the “Medical” section, added a new “Health care needs are being addressed” field and a table of “Existing Mental Health Diagnoses” that is auto-populated from information entered into the mental health area of UAC Path.

○ Removed the “Medical History” and “Medication Table” from the “Medical” section.

○ In the “Mental Health” section, removed the fields under “Psychological Evaluation” and added the following fields: “Date Completed”, “Date of Evaluation”, and “Evaluator”.

○ Added a new “Case Plan” section, containing seven fields.

○ Moved fields in the “Legal” section to the UAC Profile and UAC Legal Information instruments found in other ORR information collections.

○ In the “Sponsor Information” section, replaced the table with the “Adult Contact Relationship” table and added a section that displays “Previous Sponsor Applications”.

○ Added a new “Criminal” section (three fields) and an area to provide details on any criminal charges (nine fields).

○ Added a “Documents” section in which documents directly related to case management may be uploaded.

○ Removed the “Recommendations” and “Care Plan” sections.

○ In the “Certification” section, created separate areas for both the clinician and case manager to certify that all required sections of the instruments are complete and accurate and added “Translator Name” and “Language” fields.

8. Individual Service Plan (Form S-13): This instrument is used by care providers to document all services provided to the UAC. ORR revised the formatting and reworded some of the fields. In addition, ORR added the following fields: “Contract Number”, “Individual Service Plan”, “Entity Name”, “Notes”, “List Team Members who Contributed to ISP”, “Translator Name”, and “Language”. In addition, ORR added an area where documents directly related to the service plan may be uploaded. The average burden minutes per response was increased from 15 to 20 minutes.

9. Long Term Foster Care Travel Request (Form S-14): This instrument is used by long term foster care providers to request ORR approval for a UAC to travel with their foster family outside of the local community. ORR revised the formatting and reworded some of the fields. In addition, ORR added the following fields: “Status”, “Transportation Notes”, “Policy #”, “Remand for Further Information”, and “ORR Decision”. The average burden minutes per response was increased from 15 to 20 minutes.

10. Child Advocate Recommendation and Appointment (Form S-15): This instrument is used by care providers and other stakeholders to recommend appointment of a child advocate for a UAC. The child advocate contractor then enters whether a child advocate is available and ORR approves the appointment. ORR reformatted and reorganized the instrument and reworded some of the fields. No changes were made to the content.

11. 30 Day Restrictive Placement Case Review (formerly titled Summary Notes: Thirty Day Restrictive Placement Case Review) (Form S-16): This instrument is used by care providers to document their 30-day review for UAC in placed in a restrictive setting. ORR revised the formatting and added the following fields: “Out-of-Network RTC Provider”, “Case Manager Name”, “Case Coordinator Name”, “FFS Name”, “Name and Title”, and “Date”.

12. Admission (Form S-18): This instrument is used by ORR grantee case managers and clinicians to document the UAC's initial needs, functioning, and history. Other instruments are also accessible from within the Admission instrument, such as transfer requests, travel requests, and various child assessments. This is a new instrument that ORR plans to add to this collection.

13. Home Study/Post-Release Service (HS/PRS) Referral (Form S-19): This instrument is used by ORR grantee case managers to refer a UAC for a home study and/or post-release services. This is a new instrument that ORR plans to add to this collection.

14. UAC Authorized/Restricted Call List and Call Log (Form S-20): This instrument is used by case managers to create a list of authorized and restricted contacts to ensure safe communication for the UAC and document the details of phone calls made by a UAC. This is a new instrument that ORR plans to add to this collection.

15. Home Study/Post-Release Service (HS/PRS) Primary Provider Entity (Form S-21A): This instrument is used by grantee HS/PRS providers to add identifying information about their organization into the UAC Path system. Each organization only needs to be created once. Field values may be updated as often as needed. This is a new instrument that ORR plans to add to this collection.

16. Home Study/Post-Release Service (HS/PRS) Subcontractor Entity (Form S-21B): Entity record. Each organization only needs to be created once. Field values may be updated as often as needed. This is a new instrument that ORR plans to add to this collection.

17. Home Study/Post-Release Service (HS/PRS) Primary Provider Profile (Form S-21C): This instrument is used by HS/PRS providers to add identifying information about caseworkers employed by their organization. Each organization only needs to be created once. Field values may be updated as often as needed. This is a new instrument that ORR plans to add to this collection.

18. Home Study/Post-Release Service (HS/PRS) Subcontractor Profile (Form S-21D): This instrument is used by HS/PRS providers to add identifying information about caseworkers employed their sub-grantee organizations. Each organization only needs to be created once. Field values may be updated as often as needed. This is a new instrument that ORR plans to add to this collection.

19. Post-Release Service (PRS) Event (Form S-22): This instrument is used by post-release service caseworkers to document referrals made and services provided at critical junctures of service provision, such as 14 day, 6 month, 12 month, and closure. The instrument contains auto-populated sponsor information and areas to document information about the HS/PRS provider, reason for referral, the minor's placement and safety status, and services areas addressed. This is a new instrument that ORR plans to add to this collection.

20. Case Manager Call Log and Case Notes (Form S-23): This instrument is used by case managers to log any contact (in-person, phone, video, social media, or mail) they make in relation to the UAC's case, including any related notes. This is a new instrument that ORR plans to add to this collection.

21. Sponsor Application (Form S-24): This instrument is used by care providers to document certain information and milestones in the sponsor application process. This is a new instrument that ORR plans to add to this collection.

22. Ohio Youth Assessment System (OYAS) Reentry Tool: No changes were made to this instrument.

23. UAC Case Status: ORR is discontinuing this instrument.

Respondents: ORR grantee and contractor staff; UAC; sponsors; and child advocates.

Annual Burden Estimates
Information collection title | Annual number of respondents | Annual number of responses per respondent | Average burden minutes per response | Annual total burden hours
Sponsor Assessment (Form S-5) | 216 | 265 | 60 | 57,240
Home Study Assessment (Form S-6) | 60 | 81 | 45 | 3,645
Adult Contact Profile (Form S-7) | 216 | 1,324 | 45 | 214,488
Initial Intakes Assessment (Form S-8) | 216 | 278 | 20 | 20,016
Assessment for Risk (Form S-9) | 216 | 556 | 45 | 90,072
UAC Assessment (Form S-11) | 216 | 278 | 120 | 120,096
UAC Case Review (Form S-12) | 216 | 556 | 120 | 240,192
Individual Service Plan (Form S-13) | 216 | 694 | 20 | 49,968
Long Term Foster Care Travel Request (Form S-14) | 30 | 8 | 20 | 80
Child Advocate Recommendation and Appointment (Form S-15) | 216 | 5 | 15 | 270
Thirty Day Restrictive Placement Case Review (Form S-16) | 15 | 67 | 45 | 754
Admission (Form S-18) | 216 | 278 | 20 | 20,016
Home Study/Post-Release Service (HS/PRS) Referral (Form S-19) | 216 | 68 | 20 | 4,896
UAC Authorized/Restricted Call List and Call Log (Form S-20) | 216 | 6,981 | 5 | 125,658
Home Study/Post-Release Service (HS/PRS) Primary Provider Entity (Form S-21A) | 9 | 1 | 5 | 1
Home Study/Post-Release Service (HS/PRS) Subcontractor Entity (Form S-21B) | 51 | 1 | 5 | 4
Home Study/Post-Release Service (HS/PRS) Primary Provider Profile (Form S-21C) | 9 | 13 | 5 | 10
Home Study/Post-Release Service (HS/PRS) Subcontractor Profile (Form S-21D) | 51 | 13 | 5 | 55
Post-Release Service (PRS) Event (Form S-22) | 60 | 968 | 60 | 58,080
Case Manager Call Log and Case Notes (Form S-23) | 216 | 8,426 | 5 | 151,668
Sponsor Application (Form S-24) | 216 | 265 | 60 | 57,240
Ohio Youth Assessment System (OYAS) Reentry Tool | 15 | 101 | 75 | 1,894
Estimated Annual Burden Hours Total |  |  |  | 1,216,343

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996).

Mary B. Jones,
ACF/OPRE Certifying Officer.

[FR Doc. 2021-03897 Filed 2-24-21; 8:45 am]

BILLING CODE 4184-45-P